DEPARTMENT OF TRANSPORTATION

Federal Aviation Administration

14 CFR Part 39

[Docket No. FAA-2004-19541; Directorate Identifier 2004-NM-129-AD; Amendment 39-14013; AD 2005-06-05]

RIN 2120-AA64

Airworthiness Directives; McDonnell Douglas Model DC-8 Airplanes

AGENCY: Federal Aviation Administration (FAA), Department of Transportation (DOT).

ACTION: Final rule.

SUMMARY: The FAA is adopting a new airworthiness directive (AD) for all McDonnell Douglas Model DC-8 airplanes. This AD requires an inspection of the pushrod assemblies for the left and right elevator control tabs to determine if the pushrod assemblies are made of aluminum or steel, replacing any assembly made of aluminum with an assembly made of steel or modifying existing steel assemblies, and other specified actions. This AD also requires an inspection of the crank assemblies for the inboard and outboard geared tabs of the elevator to determine if the crank assemblies are made of aluminum or steel, replacing any assembly made of aluminum with an assembly made of steel, and other specified actions. This AD is prompted by an accident involving a DC-8 airplane. The probable cause of the accident was a loss of pitch control resulting from the disconnection of the pushrod for the right elevator control tab. The pushrod dropped down and jammed in front of the control tab crank, causing a large deflection of the control tab. We are issuing this AD to minimize the possibility of a control tab offset. A control tab offset could cause elevator deflection, an elevator airplane-nose-up condition, and reduced controllability of the airplane. This AD is also prompted by a report that the elevator on a McDonnell Douglas Model DC-8 airplane did not respond to command inputs from the flightcrew. We are also issuing this AD to minimize the possibility of crank assembly failure when the assembly is exposed to abnormal load conditions. Failure of a crank assembly could result in a jammed elevator and consequent reduced controllability of the airplane.

DATES: This AD becomes effective April 22, 2005.

The incorporation by reference of certain publications listed in the AD is approved by the Director of the Federal Register as of April 22, 2005.

ADDRESSES: For service information identified in this AD, contact Boeing Commercial Airplanes, Long Beach Division, 3855 Lakewood Boulevard, Long Beach, California 90846, Attention: Data and Service Management, Dept. C1-L5A (D800-0024).

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2004-19541; the directorate identifier for this docket is 2004-NM-129-AD.

FOR FURTHER INFORMATION CONTACT: Maureen Moreland, Aerospace Engineer, Airframe Branch, ANM-120L, FAA, Los Angeles Aircraft Certification Office, 3960 Paramount Boulevard, Lakewood, California 90712-4137; telephone (562) 627-5238; fax (562) 627-5210.

SUPPLEMENTARY INFORMATION: The FAA proposed to amend 14 CFR part 39 with an AD for all McDonnell Douglas Model DC-8 airplanes. That action, published in the Federal Register on November 5, 2004 (69 FR 64510), proposed to require an inspection of the pushrod assemblies for the left and right elevator control tabs to determine if the pushrod assemblies are made of aluminum or steel, replacing any assembly made of aluminum with an assembly made of steel or modifying existing steel assemblies, and other specified actions. That action also proposed to require an inspection of the crank assemblies for the inboard and outboard geared tabs of the elevator to determine if the crank assemblies are made of aluminum or steel, replacing any assembly made of aluminum with an assembly made of steel, and other specified actions.

Comments

We provided the public the opportunity to participate in the development of this AD. We have considered the comments that have been submitted on the proposed AD.

Supportive Comment

One commenter supports the proposed AD.

Request To Revise Costs of Compliance

One commenter requests that the Costs of Compliance section of the proposed AD be revised to include detailed cost information. The commenter states that the proposed AD requires replacement or modification of certain parts, therefore, the parts costs and associated work hours should be included in the economic analysis of the final rule. The commenter provides all of the parts costs and labor figures.

We do not agree with the commenter's request. This AD requires inspections of the pushrod assemblies and inboard and outboard geared tab crank assemblies. The replacement or modification of certain parts is dependent upon the inspection results. The cost impact figures discussed in AD rulemaking actions represent only the time necessary to perform the specific actions actually required by the AD, not the “on condition” actions. We have not changed this AD regarding this issue.

Conclusion

We have carefully reviewed the available data, including the comments that have been submitted, and determined that air safety and the public interest require adopting the AD as proposed.

Costs of Compliance

There are about 227 airplanes of the affected design in the worldwide fleet. The following table provides the estimated costs for U.S. operators to comply with this AD.

Estimated Costs
Action | Work hours | Average labor rate per hour | Parts | Cost per airplane | Number of U.S.- registered airplanes | Fleet cost
Inspection, crank assemblies | 1 | $65 | None | $65 | 170 | $11,050
Inspection, pushrod assemblies | 1 | 65 | None | 65 | 170 | 11,050

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-06-05 McDonnell Douglas: Amendment 39-14013. Docket No. FAA-2004-19541; Directorate Identifier 2004-NM-129-AD.

Effective Date

(a) This AD becomes effective April 22, 2005.

Affected ADs

(b) None.

Applicability

(c) This AD applies to all McDonnell Douglas Model DC-8 airplanes, certificated in any category.

Unsafe Condition

(d) This AD was prompted by an accident involving a DC-8 airplane. The probable cause of the accident was a loss of pitch control resulting from the disconnection of the pushrod for the right elevator control tab. The pushrod dropped down and jammed in front of the control tab crank, causing a large deflection of the control tab. We are issuing this AD to minimize the possibility of a control tab offset. A control tab offset could cause elevator deflection, an elevator airplane-nose-up condition, and reduced controllability of the airplane. This AD was also prompted by a report that the elevator on a McDonnell Douglas Model DC-8 airplane did not respond to command inputs from the flightcrew. We are also issuing this AD to minimize the possibility of a crank assembly failure when the assembly is exposed to abnormal load conditions. Failure of a crank assembly could result in a jammed elevator and consequent reduced controllability of the airplane.

Compliance

(e) You are responsible for having the actions required by this AD performed within the compliance times specified, unless the actions have already been done.

Inspection of Pushrod Assemblies and Other Specified Actions

(f) Within 24 months after the effective date of this AD: Do an inspection of the pushrod assemblies located in the left and right elevator control tabs to determine whether the assemblies are made of aluminum or steel. Replace any pushrod assembly made of aluminum with a new, improved pushrod assembly made of steel, or modify any existing steel pushrod assembly by replacing the aft end assembly with a new, improved aft end assembly, as applicable. Do the inspection, replacement or modification, and all other applicable specified actions by accomplishing all of the actions in the Accomplishment Instructions of Boeing Alert Service Bulletin DC8-27A281, dated June 2, 2004. The replacement or modification and other applicable specified actions must be done before further flight.

Inspection of Geared Tab Crank Assemblies and Other Specified Actions

(g) Within 24 months after the effective date of this AD: Do an inspection of the inboard and outboard geared tab crank assemblies, located in the left and right elevators, to determine whether the assemblies are made of aluminum or steel. Replace any crank assembly made of aluminum with a new, improved crank assembly made of steel. Do the inspection, replacement, and other applicable specified actions by accomplishing all of the actions in the Accomplishment Instructions of Boeing Alert Service Bulletin DC8-27A280, dated June 2, 2004. The replacement and other applicable specified actions must be done before further flight.

Alternative Methods of Compliance (AMOCs)

(h) The Manager, Los Angeles Aircraft Certification Office, FAA, has the authority to approve AMOCs for this AD, if requested in accordance with the procedures found in 14 CFR 39.19.

Material Incorporated by Reference

(i) You must use Boeing Alert Service Bulletin DC8-27A280, dated June 2, 2004; and Boeing Alert Service Bulletin DC8-27A281, dated June 2, 2004; as applicable; to perform the actions that are required by this AD; unless the AD specifies otherwise. The Director of the Federal Register approves the incorporation by reference of these documents in accordance with 5 U.S.C. 552(a) and 1 CFR part 51. For copies of the service information, contact Boeing Commercial Airplanes, Long Beach Division, 3855 Lakewood Boulevard, Long Beach, California 90846, Attention: Data and Service Management, Dept. C1-L5A (D800-0024). For information on the availability of this material at the National Archives and Records Administration (NARA), call (202) 741-6030, or go to http://www.archives.gov/federal_register/code_of_federal_regulations/ibr_locations.html. You may view the AD docket at the Docket Management Facility, U.S. Department of Transportation, 400 Seventh Street, SW., room PL-401, Nassif Building, Washington, DC.

Issued in Renton, Washington, on March 8, 2005.
Ali Bahrami,
Manager, Transport Airplane Directorate, Aircraft Certification Service.

[FR Doc. 05-5141 Filed 3-17-05; 8:45 am]

BILLING CODE 4910-13-P